DEPARTMENT OF HOMELAND SECURITY

Office of the Secretary

6 CFR Chs. I and II

[DHS Docket No. OGC-RP-04-001]

Unified Agenda of Federal Regulatory and Deregulatory Actions

AGENCY: Office of the Secretary, DHS.

ACTION: Semiannual regulatory agenda.

SUMMARY: This regulatory agenda is a semiannual summary of all current and projected rulemakings, existing regulations, and completed actions of the Department of Homeland Security (DHS) and its components. This agenda provides the public with information about DHS's regulatory activity. DHS expects that this information will enable the public to be more aware of, and effectively participate in, the Department's regulatory activity. DHS invites the public to submit comments on any aspect of this agenda.

FOR FURTHER INFORMATION CONTACT:

General

Please direct general comments and inquiries on the agenda to the Regulatory Affairs Law Division, U.S. Department of Homeland Security, Office of the General Counsel, 245 Murray Lane, Mail Stop 0485, Washington, DC 20528-0485.

Specific

Please direct specific comments and inquiries on individual regulatory actions identified in this agenda to the individual listed in the summary of the regulation as the point of contact for that regulation.

SUPPLEMENTARY INFORMATION: DHS provides this notice pursuant to the requirements of the Regulatory Flexibility Act (Pub. L. 96-354, Sep. 19, 1980) and Executive Order 12866 “Regulatory Planning and Review” (Sep. 30, 1993) as incorporated in Executive Order 13563 “Improving Regulation & Regulatory Review” (Jan. 18, 2011), which require the Department to publish a semiannual agenda of regulations. The regulatory agenda is a summary of all current and projected rulemakings, as well as actions completed since the publication of the last regulatory agenda for the Department. DHS's last semiannual regulatory agenda was published on July 23, 2013, at 78 FR 44266.

Beginning in fall 2007, the Internet became the basic means for disseminating the Unified Agenda. The complete Unified Agenda is available online at www.reginfo.gov.

As part of the Unified Agenda, Federal agencies are also required to prepare a Regulatory Plan of the most important significant regulatory actions that the agency reasonably expects to issue in proposed or final form in that fiscal year. As in past years, for fall editions of the Unified Agenda, the entire Regulatory Plan and agency regulatory flexibility agendas, in accordance with the publication requirements of the Regulatory Flexibility Act, are printed in the Federal Register.

The Regulatory Flexibility Act (5 U.S.C. 602) requires Federal agencies to publish their regulatory flexibility agenda in the Federal Register. A regulatory flexibility agenda shall contain, among other things, “a brief description of the subject area of any rule which is likely to have a significant economic impact on a substantial number of small entities.” DHS's printed agenda entries include regulatory actions that are in the Department's regulatory flexibility agenda. Printing of these entries is limited to fields that contain information required by the agenda provisions of the Regulatory Flexibility Act. Additional information on these entries is available in the Unified Agenda published on the Internet.

The semiannual agenda of the Department conforms to the Unified Agenda format developed by the Regulatory Information Service Center.

Dated: August 29, 2013.
Christina E. McDonald,
Associate General Counsel for Regulatory Affairs.

Office of the Secretary—Final Rule Stage
Sequence No. | Title | Regulation Identifier No.
320 | Ammonium Nitrate Security Program (Reg Plan Seq No. 68) | 1601-AA52
References in boldface appear in The Regulatory Plan in part II of this issue of the Federal Register.

U.S. Citizenship and Immigration Services—Proposed Rule Stage
Sequence No. | Title | Regulation Identifier No.
321 | Administrative Appeals Office: Procedural Reforms To Improve Efficiency (Reg Plan Seq No. 73) | 1615-AB98
References in boldface appear in The Regulatory Plan in part II of this issue of the Federal Register.

U.S. Coast Guard—Proposed Rule Stage
Sequence No. | Title | Regulation Identifier No.
322 | Numbering of Undocumented Barges | 1625-AA14
323 | Outer Continental Shelf Activities | 1625-AA18
324 | Updates to Maritime Security | 1625-AB38
325 | Lifesaving Devices Uninspected Vessels Commercial Barges and Sailing Vessels (Section 610 Review) | 1625-AB83

U.S. Coast Guard—Final Rule Stage
Sequence No. | Title | Regulation Identifier No.
326 | Implementation of the 1995 Amendments to the International Convention on Standards of Training, Certification, and Watchkeeping (STCW) for Seafarers, 1978 (Reg Plan Seq No. 78) | 1625-AA16
327 | Vessel Requirements for Notices of Arrival and Departure, and Automatic Identification System (Reg Plan Seq No. 79) | 1625-AA99
328 | Inspection of Towing Vessels | 1625-AB06
329 | Transportation Worker Identification Credential (TWIC); Card Reader Requirements (Reg Plan Seq No. 80) | 1625-AB21
330 | Commercial Fishing Vessels—Implementation of 2010 and 2012 Legislation | 1625-AB85
References in boldface appear in The Regulatory Plan in part II of this issue of the Federal Register.

U.S. Coast Guard—Completed Actions
Sequence No. | Title | Regulation Identifier No.
331 | Nontank Vessel Response Plans and Other Vessel Response Plan Requirements | 1625-AB27
332 | Marine Vapor Control Systems | 1625-AB37

U.S. Customs and Border Protection—Final Rule Stage
Sequence No. | Title | Regulation Identifier No.
333 | Importer Security Filing and Additional Carrier Requirements (Section 610 Review) (Reg Plan Seq No. 82) | 1651-AA70
334 | Implementation of the Guam-CNMI Visa Waiver Program (Section 610 Review) (Reg Plan Seq No. 84) | 1651-AA77
References in boldface appear in The Regulatory Plan in part II of this issue of the Federal Register.

Transportation Security Administration—Proposed Rule Stage
Sequence No. | Title | Regulation Identifier No.
335 | Modification of the Aviation Security Infrastructure Fee (ASIF) (Market Share) | 1652-AA43
336 | General Aviation Security and Other Aircraft Operator Security | 1652-AA53
337 | Security Training for Surface Mode Employees (Reg Plan Seq No. 86) | 1652-AA55
338 | Standardized Vetting, Adjudication, and Redress Services (Reg Plan Seq No. 87) | 1652-AA61
References in boldface appear in The Regulatory Plan in part II of this issue of the Federal Register.

Transportation Security Administration—Final Rule Stage
Sequence No. | Title | Regulation Identifier No.
339 | Aircraft Repair Station Security (Reg Plan Seq No. 88) | 1652-AA38
References in boldface appear in The Regulatory Plan in part II of this issue of the Federal Register.

U.S. Immigration and Customs Enforcement—Final Rule Stage
Sequence No. | Title | Regulation Identifier No.
340 | Standards To Prevent, Detect, and Respond to Sexual Abuse and Assault in Confinement Facilities (Section 610 Review) (Reg Plan Seq No. 91) | 1653-AA65
References in boldface appear in The Regulatory Plan in part II of this issue of the Federal Register.

DEPARTMENT OF HOMELAND SECURITY (DHS)

Office of the Secretary (OS)

Final Rule Stage

320. Ammonium Nitrate Security Program

Regulatory Plan: This entry is Seq. No. 68 in part II of this issue of the Federal Register.

RIN: 1601-AA52

DEPARTMENT OF HOMELAND SECURITY (DHS)

U.S. Citizenship and Immigration Services (USCIS)

Proposed Rule Stage

321. Administrative Appeals Office: Procedural Reforms to Improve Efficiency

Regulatory Plan: This entry is Seq. No. 73 in part II of this issue of the Federal Register.

RIN: 1615-AB98

DEPARTMENT OF HOMELAND SECURITY (DHS)

U.S. Coast Guard (USCG)

Proposed Rule Stage

322. Numbering of Undocumented Barges

Legal Authority: 46 U.S.C. 12301

Abstract: Title 46 U.S.C. 12301, as amended by the Abandoned Barge Act of 1992, requires that all undocumented barges of more than 100 gross tons operating on the navigable waters of the United States be numbered. This rulemaking would establish a numbering system for these barges. The numbering of undocumented barges allows the Coast Guard to identify the owners of abandoned barges. This rulemaking supports the Coast Guard's broad role and responsibility of protecting natural resources.

Timetable:

Action | Date | FR Cite
Request for Comments | 10/18/94 | 59 FR 52646
Comment Period End | 01/17/95 |
ANPRM | 07/06/98 | 63 FR 36384
ANPRM Comment Period End | 11/03/98 |
NPRM | 01/11/01 | 66 FR 2385
NPRM Comment Period End | 04/11/01 |
NPRM Reopening of Comment Period | 08/12/04 | 69 FR 49844
NPRM Reopening Comment Period End | 11/10/04 |
Supplemental NPRM | 03/00/14 |

Regulatory Flexibility Analysis Required: Yes.

Agency Contact: Denise Harmon, Project Manager, Department of Homeland Security, U.S. Coast Guard, National Vessel Documentation Center, 792 T.J. Jackson Drive, Falling Waters, WV 25419, Phone: 304 271-2506, Email: denise.e.harmon@uscg.mil.

RIN: 1625-AA14

323. Outer Continental Shelf Activities

Legal Authority: 43 U.S.C. 1333(d)(1); 43 U.S.C. 1348(c); 43 U.S.C. 1356; DHS Delegation No 0170.1

Abstract: The Coast Guard is the lead Federal agency for workplace safety and health on facilities and vessels engaged in the exploration for, or development, or production of, minerals on the Outer Continental Shelf (OCS), other than for matters generally related to drilling and production that are regulated by the Bureau of Ocean Energy Management, Regulation, and Enforcement (BOEMRE). This project would revise the regulations on OCS activities by: (1) Adding new requirements, for OCS units for lifesaving, fire protection, training, hazardous materials used as stores, and accommodation spaces; (2) adding standards for electrical and machinery installations in hazardous locations; (3) providing regulations for dynamic positioning systems; (4) providing for USCG acceptance and approval of specified classification society plan reviews, inspections, audits, and surveys; and (5) requiring foreign vessels engaged in OCS activities to comply with rules similar to those imposed on U.S. vessels similarly engaged. This project would affect the owners and operators of facilities and vessels engaged in offshore activities.

Timetable:

Action | Date | FR Cite
Request for Comments | 06/27/95 | 60 FR 33185
Comment Period End | 09/25/95 |
NPRM | 12/07/99 | 64 FR 68416
NPRM Correction | 02/22/00 | 65 FR 8671
NPRM Comment Period Extended | 03/16/00 | 65 FR 14226
NPRM Comment Period Extended | 06/30/00 | 65 FR 40559
NPRM Comment Period End | 11/30/00 |
Supplemental NPRM | 09/00/14 |

Regulatory Flexibility Analysis Required: Yes.

Agency Contact: Dan Lawrence, Program Manager, CG-OES-2, Department of Homeland Security, U.S. Coast Guard, Commandant, 2100 Second Street SW., STOP 7509, Washington, DC 20593-7509, Phone: 202 372-1382, Email: james.d.lawrence@uscg.mil.

RIN: 1625-AA18

324. Updates to Maritime Security

Legal Authority: 33 U.S.C. 1226; 33 U.S.C. 1231; 46 U.S.C. ch 701; 50 U.S.C. 191 and 192; EO 12656; 3 CFR 1988 Comp p 585; 33 CFR 1.05-1; 33 CFR 6.04-11; 33 CFR 6.14; 33 CFR 6.16; 33 CFR 6.19; DHS Delegation No 0170.1

Abstract: The Coast Guard proposes certain additions, changes, and amendments to 33 CFR, subchapter H. Subchapter H is comprised of parts 101 through 106. Subchapter H implements the major provisions of the Maritime Transportation Security Act of 2002 (MTSA). This rulemaking is the first major revision to subchapter H. The proposed changes would further the goals of domestic compliance and international cooperation by incorporating requirements from legislation implemented since the original publication of these regulations, such as the Security and Accountability for Every (SAFE) Port Act of 2006, and including international standards such as STCW security training. This rulemaking has international interest because of the close relationship between subchapter H and the International Ship and Port Security Code (ISPS).

Timetable:

Action | Date | FR Cite
NPRM | 09/00/14 |

Regulatory Flexibility Analysis Required: Yes.

Agency Contact: LCDR Loan O'Brien, Project Manager, Department of Homeland Security, U.S. Coast Guard, Commandant, (CG-FAC-2), 2703 Martin Luther King Jr. Avenue SE., STOP 7501, Washington, DC 20593-7501, Phone: 202 372-1133, Email: loan.t.o'brien@uscg.mil.

RIN: 1625-AB38

325. Lifesaving Devices Uninspected Vessels Commercial Barges and Sailing Vessels (Section 610 Review)

Legal Authority: 46 U.S.C. 2103; 46 U.S.C. 4102; Department of Homeland Security Delegation No. 0170.1(92)(a), (92)(b)

Abstract: The Coast Guard proposed aligning its regulations with the 2010 Coast Guard Authorization Act. Before 2010, uninspected commercial barges and uninspected commercial sailing vessels fell outside the scope of a statute requiring the regulation of lifesaving devices on uninspected vessels. Lifesaving devices were required on these vessels only if they carried passengers for hire. The 2010 Act brought these vessels within the scope of the statutory requirement to carry lifesaving devices even if they carry no passengers. The Coast Guard proposed requiring the use of wearable personal flotation devices for individuals on board uninspected commercial barges and sailing vessels, and amending several regulatory tables to reflect that requirement. This rulemaking promotes the Coast Guard's maritime safety mission.

Timetable:

Action | Date | FR Cite
NPRM | 07/17/13 | 78 FR 42739
NPRM Comment Period End | 10/15/13 |
Final Rule | To Be | Determined

Regulatory Flexibility Analysis Required: No.

Agency Contact: Martin L. Jackson, Project Manager, Department of Homeland Security, U.S. Coast Guard, Commandant (CG-ENG-4), 2703 Martin Luther King Jr. Avenue SE., STOP 7509, Washington, DC 20593-7509, Phone: 202 372-1391, Email: martin.l.jackson@uscg.mil.

RIN: 1625-AB83

DEPARTMENT OF HOMELAND SECURITY (DHS)

U.S. Coast Guard (USCG)

Final Rule Stage

326. Implementation of the 1995 Amendments to the International Convention on Standards of Training, Certification, and Watchkeeping (STCW) for Seafarers, 1978

Regulatory Plan: This entry is Seq. No. 78 in part II of this issue of the Federal Register.

RIN: 1625-AA16

327. Vessel Requirements for Notices of Arrival and Departure, and Automatic Identification System

Regulatory Plan: This entry is Seq. No. 79 in part II of this issue of the Federal Register.

RIN: 1625-AA99

328. Inspection of Towing Vessels

Legal Authority: 46 U.S.C. 3103; 46 U.S.C. 3301; 46 U.S.C. 3306; 46 U.S.C. 3308; 46 U.S.C. 3316; 46 U.S.C. 3703; 46 U.S.C. 8104; 46 U.S.C. 8904; DHS Delegation No 0170.1

Abstract: This rulemaking would implement a program of inspection for certification of towing vessels, which were previously uninspected. It would prescribe standards for safety management systems and third-party auditors and surveyors, along with standards for construction, operation, vessel systems, safety equipment, and recordkeeping.

Timetable:

Action | Date | FR Cite
NPRM | 08/11/11 | 76 FR 49976
Notice of Public Meetings | 09/09/11 | 76 FR 55847
NPRM Comment Period End | 12/09/11 |
Final Rule | 09/00/14 |

Regulatory Flexibility Analysis Required: Yes.

Agency Contact: Patrick Mannion, Project Manager, CG-OES2, Department of Homeland Security, U.S. Coast Guard, 2703 Martin Luther King Jr. Avenue SE., STOP 7509, Washington, DC 20593-7509, Phone: 202 372-1439, Email: patrick.j.mannion@uscg.mil.

RIN: 1625-AB06

329. Transportation Worker Identification Credential (TWIC); Card Reader Requirements

Regulatory Plan: This entry is Seq. No. 80 in part II of this issue of the Federal Register.

RIN: 1625-AB21

330. Commercial Fishing Vessels—Implementation of 2010 and 2012 Legislation

Legal Authority: Pub. L. 111-281; title VI (Marine Safety)

Abstract: The Coast Guard is implementing those requirements of 2010 and 2012 legislation that pertain to uninspected commercial fishing industry vessels and that took effect upon enactment of the legislation but that, to be implemented, require amendments to Coast Guard regulations affecting those vessels. The applicability of the regulations is being changed, and new requirements are being added to safety training, equipment, vessel examinations, vessel safety standards, the documentation of maintenance, and the termination of unsafe operations. This rulemaking promotes the Coast Guard maritime safety mission.

Timetable:

Action | Date | FR Cite
Interim Final Rule | 09/00/14 |

Regulatory Flexibility Analysis Required: Yes.

Agency Contact: Jack Kemerer, Project Manager, CG-CVC-43, Department of Homeland Security, U.S. Coast Guard, 2703 Martin Luther King Jr. Avenue SE., STOP 7501, Washington, DC 20593-7501, Phone: 202 372-1249, Email: jack.a.kemerer@uscg.mil.

RIN: 1625-AB85

DEPARTMENT OF HOMELAND SECURITY (DHS)

U.S. Coast Guard (USCG)

Completed Actions

331. Nontank Vessel Response Plans and Other Vessel Response Plan Requirements

Legal Authority: 3 U.S.C. 301 to 303; 33 U.S.C. 1223; 33 U.S.C. 1231; 33 U.S.C. 3121; 33 U.S.C. 1903; 33 U.S.C. 1908; 46 U.S.C. 6101

Abstract: This rulemaking would establish regulations requiring owners or operators of nontank vessels to prepare and submit oil spill response plans. The Federal Water Pollution Control Act defines nontank vessels as self-propelled vessels of 400 gross tons or greater that operate on the navigable waters of the United States, carry oil of any kind as fuel for main propulsion, and are not tank vessels. The NPRM proposed to specify the content of a response plan, and among other issues, address the requirement to plan for responding to a worst case discharge and a substantial threat of such a discharge. Additionally, the NPRM proposed to update International Shipboard Oil Pollution Emergency Plan (SOPEP) requirements that apply to certain nontank vessels and tank vessels. Finally, the NPRM proposed to require vessel owners and operators to submit their vessel response plan control number as part of the notice of arrival information. This project supports the Coast Guard's broad roles and responsibilities of maritime stewardship.

Timetable:

Action | Date | FR Cite
NPRM | 08/31/09 | 74 FR 44970
Public Meeting | 09/25/09 | 74 FR 48891
NPRM Comment Period End | 11/30/09 |
Final Rule | 09/30/13 | 78 FR 60099
Final Rule Effective | 10/30/13 |

Regulatory Flexibility Analysis Required: Yes.

Agency Contact: Mr. Timothy M. Brown, Project Manager, Office of Commercial Vessel Compliance (CG-CVC-1), Department of Homeland Security, U.S. Coast Guard, 2703 Martin Luther King Jr. Avenue SE., STOP 7501, Washington, DC 20593-7501, Phone: 202 372-2358, Email: timothy.m.brown@uscg.mil.

RIN: 1625-AB27

332. Marine Vapor Control Systems

Legal Authority: 33 U.S.C. 1225; 42 U.S.C. 7511b(f)(2); 46 U.S.C. 3703

Abstract: The Coast Guard proposes to revise the existing safety regulations for facility and vessel vapor control systems (VCSs). The proposed changes would make VCS requirements more compatible with new Federal and State environmental requirements, regulate industry advancements in VCS technology, and codify the standards in the design and operation of a VCS at a tank barge cleaning facility. These changes would increase the safety of operations by regulating the design, installation, and use of VCSs, but would not require the installation or use of the systems.

Timetable:

Action | Date | FR Cite
NPRM | 10/21/10 | 75 FR 65151
NPRM Comment Period End | 04/21/11 |
Final Rule | 07/16/13 | 78 FR 42596

Regulatory Flexibility Analysis Required: Yes.

Agency Contact: LT Jodi Min, Project Manager, CG-ENG-5, Department of Homeland Security, U.S. Coast Guard, 2703 Martin Luther King Jr. Avenue SE., STOP 7509, Washington, DC 20593-7509, Phone: 202 372-1422, Email: jodi.j.min@uscg.mil.

RIN: 1625-AB37

DEPARTMENT OF HOMELAND SECURITY (DHS)

U.S. Customs and Border Protection (USCBP)

Final Rule Stage

333. Importer Security Filing and Additional Carrier Requirements (Section 610 Review)

Regulatory Plan: This entry is Seq. No. 82 in part II of this issue of the Federal Register.

RIN: 1651-AA70

334. Implementation of the Guam-CNMI Visa Waiver Program (Section 610 Review)

Regulatory Plan: This entry is Seq. No. 84 in part II of this issue of the Federal Register.

RIN: 1651-AA77

DEPARTMENT OF HOMELAND SECURITY (DHS)

Transportation Security Administration (TSA)

Proposed Rule Stage

335. Modification of the Aviation Security Infrastructure Fee (ASIF) (Market Share)

Legal Authority: 49 U.S.C. 44901; 49 U.S.C. 44940

Abstract: On February 20, 2002 (67 FR 7926), the Transportation Security Administration (TSA) published an interim final rule (IFR) that established the Aviation Security Infrastructure Fee (ASIF), which is imposed on air carriers and foreign air carriers in air transportation, foreign air transportation, and intrastate air transportation to help defray TSA's costs of providing U.S. civil aviation security services. TSA is developing a notice of proposed rulemaking (NPRM) that will propose to amend current ASIF requirements, see 49 CFR part 1511, by modifying the method that TSA uses to assess the ASIF, reapportioning the amount to be paid per airline. The NPRM will also respond to any comments submitted regarding the IFR.

On November 5, 2003, the Transportation Security Administration (TSA) published a notice requesting comment on possible changes in order to allow for open industry and public input. TSA sought comments on issues regarding how to impose the ASIF, and whether, when, and how often the ASIF should be adjusted.

Timetable:

Action | Date | FR Cite
Notice; Requesting Comment-Imposition of the Aviation Security Infrastructure Fee (ASIF) | 11/05/03 | 68 FR 62613
Notice—Imposition of ASIF; Comment Period End | 01/05/04 |
Notice—Imposition of ASIF; Comment Period Extended | 12/31/03 | 68 FR 75611
Notice—Imposition of ASIF; Extended Comment Period End | 02/05/04 |
NPRM | 04/00/14 |

Regulatory Flexibility Analysis Required: Yes.

Agency Contact: Michael Gambone, Deputy Director, Office of Revenue, Department of Homeland Security, Transportation Security Administration, Office of Finance and Administration, TSA-14, HQ, W12, 601 South 12th Street, Arlington, VA 20598-6014, Phone: 571 227-1081, Fax: 571 227-2904, Email: michael.gambone@tsa.dhs.gov.

Monica Grasso Ph.D., Manager, Economic Analysis Branch-Cross Modal Division, Department of Homeland Security, Transportation Security Administration, Office of Security Policy and Industry Engagement, TSA-28, HQ, E10, 601 South 12th Street, Arlington, VA 20598-6028, Phone: 571 227-3329, Email: monica.grasso@tsa.dhs.gov.

Traci Klemm, Senior Counsel, Regulations and Security Standards Division, Department of Homeland Security, Transportation Security Administration, Office of the Chief Counsel, TSA-2, HQ, E12, 601 South 12th Street, Arlington, VA 20598-6002, Phone: 571 227-3596, Email: traci.klemm@tsa.dhs.gov.

RIN: 1652-AA43

336. General Aviation Security and Other Aircraft Operator Security

Legal Authority: 6 U.S.C. 469; 18 U.S.C. 842; 18 U.S.C. 845; 46 U.S.C. 70102 to 70106; 46 U.S.C. 70117; 49 U.S.C. 114; 49 U.S.C. 114(f)(3); 49 U.S.C. 5103; 49 U.S.C. 5103a; 49 U.S.C. 40113; 49 U.S.C. 44901 to 44907; 49 U.S.C. 44913 to 44914; 49 U.S.C. 44916 to 44918; 49 U.S.C. 44932; 49 U.S.C. 44935 to 44936; 49 U.S.C. 44942; 49 U.S.C. 46105

Abstract: On October 30, 2008 (73 FR 64790), the Transportation Security Administration (TSA) issued a Notice of Proposed Rulemaking (NPRM), proposing to amend current aviation transportation security regulations to enhance the security of general aviation by expanding the scope of current requirements, and by adding new requirements for certain large aircraft operators and airports serving those aircraft. TSA also proposed that all aircraft operations, including corporate and private charter operations, with aircraft having a maximum certificated takeoff weight (MTOW) above 12,500 pounds (large aircraft) be required to adopt a large aircraft security program. TSA also proposed to require certain airports that serve large aircraft to adopt security programs.

After considering comments received on the NPRM and sponsoring public meetings with stakeholders, TSA decided to revise the original proposal to tailor security requirements to the general aviation industry. TSA is preparing a supplemental NPRM (SNPRM), which will include a comment period for public comments. TSA is considering the following proposed provisions in the SNPRM: (1) Security measures for foreign aircraft operators commensurate with measures for U.S. operators, (2) the type of aircraft subject to TSA regulation, (3) compliance oversight, (4) watch list matching of passengers, (5) prohibited items, (6) scope of the background check requirements and the procedures used to implement the requirement, and (7) other issues.

Timetable:

Action | Date | FR Cite
NPRM | 10/30/08 | 73 FR 64790
NPRM Comment Period End | 12/29/08 |
Notice—NPRM Comment Period Extended | 11/25/08 | 73 FR 71590
NPRM Extended Comment Period End | 02/27/09 |
Notice—Public Meetings; Requests for Comments | 12/18/08 | 73 FR 77045
Supplemental NPRM | 08/00/14 |

Regulatory Flexibility Analysis Required: Yes.

Agency Contact: Kerwin Wilson, Acting Assistant General Manager, General Aviation Security, Department of Homeland Security, Transportation Security Administration, Office of Security Policy and Industry Engagement, TSA-28, HQ, E, 601 South 12th Street, Arlington, VA 20598-6028, Phone: 571 227-3788, Email: kerwin.wilson@tsa.dhs.gov.

Monica Grasso Ph.D., Manager, Economic Analysis Branch-Cross Modal Division, Department of Homeland Security, Transportation Security Administration, Office of Security Policy and Industry Engagement, TSA-28, HQ, E10, 601 South 12th Street, Arlington, VA 20598-6028, Phone: 571 227-3329, Email: monica.grasso@tsa.dhs.gov.

Denise Daniels, Attorney, Regulations and Security Standards Division, Department of Homeland Security, Transportation Security Administration, Office of the Chief Counsel, TSA-2, HQ, E12, 601 South 12th Street, Arlington, VA 20598-6002, Phone: 571 227-3443, Fax: 571 227-1381, Email: denise.daniels@tsa.dhs.gov.

RIN: 1652-AA53

337. Security Training for Surface Mode Employees

Regulatory Plan: This entry is Seq. No. 86 in part II of this issue of the Federal Register.

RIN: 1652-AA55

338. Standardized Vetting, Adjudication, and Redress Services

Regulatory Plan: This entry is Seq. No. 87 in part II of this issue of the Federal Register.

RIN: 1652-AA61

DEPARTMENT OF HOMELAND SECURITY (DHS)

Transportation Security Administration (TSA)

Final Rule Stage

339. Aircraft Repair Station Security

Regulatory Plan: This entry is Seq. No. 88 in part II of this issue of the Federal Register.

RIN: 1652-AA38

DEPARTMENT OF HOMELAND SECURITY (DHS)

U.S. Immigration and Customs Enforcement (USICE)

Final Rule Stage

340. Standards To Prevent, Detect, and Respond to Sexual Abuse and Assault in Confinement Facilities (Section 610 Review)

Regulatory Plan: This entry is Seq. No. 91 in part II of this issue of the Federal Register.

RIN: 1653-AA65

[FR Doc. 2013-29633 Filed 1-6-14; 8:45 am]

BILLING CODE 9110-9B-P